FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Caribbean West Indies Shipping Inc., 6710 Cornelius Street, Philadelphia, PA. Officers: Randolph Waithe, President. (Qualifying Individual) Mark K. Waithe, Director.

Embarque La Isla, Inc., 440 E. 182nd Street, Bronx, NY 10457. Officer: Nelson R. Bravo, President. (Qualifying Individual)

CN Worldwide B.V., Lichtenauerlaan 102-120, 3062 ME Rotterdam, The Netherlands. Officers: Tjeerd Greidanus, Director. (Qualifying Individual) Anita Ernesaks, Managing Director.

Non-Vessel-Operating Common Carrier and Ocean Freight Forwarder Transportation Intermediary Applicants

Transmax Logistics Corporation, 1550 E. Higgins Road, Suite 114, Elk Grove Village, IL 60007. Officers: Sharia J. Lee, President. (Qualifying Individual) Lewis S. Lee, Director.

Unity Logistics And Transportation, Inc., 9010 S.W. 137th Avenue, Suite 246, Miami, FL 33186. Officer: Pedro Streb, President. (Qualifying Individual).

Ocean Freight Forwarder—Ocean Transportation Intermediary Applicants

Euro Shippers Inc., 7667 West 95th Street, Suite 308, Hickory Hills, IL 60457. Officer: Ulick M. O'Sullivan, President. (Qualifying Individual).

Smart International Cargo Express, Inc., 1841 Carter Avenue, (Esq. 176 Street), Bronx, NY 10457. Officer: Eunice B. Acosta, President. (Qualifying Individual).

Carrie International Freight Services, LLC, 215 East Bay Street, Suite 201-L, Charleston, SC 29401. Officer: Donald O. Montgomery, Member. (Qualifying Individual)

Macro Express Services, 4164 Sta Monica Blvd., Los Angeles, CA 90029. Jabonillo Vincent, Sole Proprietor.

Dated: October 28, 2005.
Bryant L. VanBrakle,
Secretary.

[FR Doc. 05-21849 Filed 11-1-05; 8:45 am]

BILLING CODE 6730-01-P